DEPARTMENT OF COMMERCE

National Oceanic and Atmospheric Administration

RIN 0648-XC059

Endangered Species; File No. 17022

AGENCY: National Marine Fisheries Service (NMFS), National Oceanic and Atmospheric Administration (NOAA), Commerce.

ACTION: Notice; receipt of application.

SUMMARY: Notice is hereby given that the NMFS Pacific Islands Fisheries Science Center (PIFSC; Samuel Pooley, Ph.D., Responsible Party), has applied in due form for a permit to take green (Chelonia mydas) and hawksbill (Eretmochelys imbricata) sea turtles for purposes of scientific research.

DATES: Written, telefaxed, or email comments must be received on or July 25, 2012.

ADDRESSES: The application and related documents are available for review by selecting “Records Open for Public Comment” from the Features box on the Applications and Permits for Protected Species (APPS) home page, https://apps.nmfs.noaa.gov, and then selecting File No. 17022 from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm. 1110, Honolulu, HI 96814-4700; phone (808) 944-2200; fax (808) 973-2941.

Written comments on this application should be submitted to the Chief, Permits and Conservation Division:

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Amy Hapeman or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The PIFSC requests a five-year research permit to continue long-term monitoring of the status of green and hawksbill sea turtles in the remote U.S. Islands and Territories in the Central Pacific excluding Hawaii to begin long-term monitoring to estimate abundance, size ranges, health status, habitat use, foraging ecology, local movements, and migration routes for green and hawksbill sea turtles. Researchers would capture, examine, measure, flipper and passive integrated transponder tag, weigh, skin and blood sample, and attach transmitters on 220 green and 165 hawksbill sea turtles annually before release. Researchers also may collect the carcasses, tissues and parts of dead sea turtles encountered during surveys.

Dated: June 19, 2012.
P. Michael Payne,
Chief, Permits and Conservation Division, Office of Protected Resources, National Marine Fisheries Service.

[FR Doc. 2012-15442 Filed 6-22-12; 8:45 am]

BILLING CODE 3510-22-P